DEPARTMENT OF ENERGY

Federal Energy Regulatory Commission

Notice of FERC Staff Attendance at Southwest Power Pool Inc. Regional State Committee Meeting and Southwest Power Pool Inc. Board of Directors/Members Committee Meeting

July 20, 2009.

The Federal Energy Regulatory Commission hereby gives notice that members of its staff may attend the meeting of the Southwest Power Pool Inc. (SPP) Regional State Committee and SPP Board of Directors/Members Committee meeting, as noted below. Their attendance is part of the Commission's ongoing outreach efforts.

SPP Regional State Committee Meeting

July 27, 2009 (1 p.m.-5 p.m.) Kansas City Airport Marriott, 775 Brasilia Ave., Kansas City, Missouri 64153.

SPP Board of Directors Meeting

July 28, 2009 (8:30 a.m.-3 p.m.) Kansas City Airport Marriott, 775 Brasilia Ave., Kansas City, Missouri 64153.

The discussions may address matters at issue in the following proceedings:

Docket No. ER06-451, Southwest Power Pool, Inc.;

Docket No. ER08-923, Southwest Power Pool, Inc.;

Docket No. ER08-1307, Southwest Power Pool, Inc.;

Docket No. ER08-1308, Southwest Power Pool, Inc.;

Docket No. ER08-1357, Southwest Power Pool, Inc.;

Docket No. ER08-1358, Southwest Power Pool, Inc.;

Docket No. ER08-1419, Southwest Power Pool, Inc.;

Docket No. ER08-1516, Southwest Power Pool, Inc.;

Docket No. EL08-80, Oklahoma Corporation Commission;

Docket No. ER09-35, Tallgrass Transmission LLC;

Docket No. ER09-36, Prairie Wind Transmission LLC;

Docket No. ER09-149, Southwest Power Pool, Inc.;

Docket No. ER09-262, Southwest Power Pool, Inc.;

Docket No. ER09-336, Southwest Power Pool, Inc.;

Docket No. ER09-342, Southwest Power Pool, Inc.;

Docket No. ER09-443, Southwest Power Pool, Inc.;

Docket No. ER09-659, Southwest Power Pool, Inc.;

Docket No. ER09-748, Southwest Power Pool, Inc.;

Docket No. ER09-883, Southwest Power Pool, Inc.;

Docket No. ER09-1039, Southwest Power Pool, Inc.;

Docket No. ER09-1042, Southwest Power Pool, Inc.;

Docket No. ER09-1050, Southwest Power Pool, Inc.;

Docket No. ER09-1055, Southwest Power Pool, Inc.;

Docket No. ER09-1056, Southwest Power Pool, Inc.;

Docket No. ER09-1057, Southwest Power Pool, Inc.;

Docket No. ER09-1068, Southwest Power Pool, Inc.;

Docket No. ER09-1080, Southwest Power Pool, Inc.;

Docket No. ER09-1136, Southwest Power Pool, Inc.;

Docket No. ER09-1130, Southwest Power Pool, Inc.;

Docket No. ER09-1140, Southwest Power Pool, Inc.;

Docket No. ER09-1152, Southwest Power Pool, Inc.;

Docket No. ER09-1172, Southwest Power Pool, Inc.;

Docket No. ER09-1174, Southwest Power Pool, Inc.;

Docket No. ER09-1177, Southwest Power Pool, Inc.;

Docket No. ER09-1192, Southwest Power Pool, Inc.;

Docket No. ER09-1202, Southwest Power Pool, Inc.;

Docket No. ER09-1212, Southwest Power Pool, Inc.;

Docket No. ER09-1219, Southwest Power Pool, Inc.;

Docket No. ER09-1223, Southwest Power Pool, Inc.;

Docket No. ER09-1230, Southwest Power Pool, Inc.;

Docket No. ER09-1234, Southwest Power Pool, Inc.;

Docket No. ER09-1236, Southwest Power Pool, Inc.;

Docket No. ER09-1238, Southwest Power Pool, Inc.;

Docket No. ER09-1242, Southwest Power Pool, Inc.;

Docket No. ER09-1245, Southwest Power Pool, Inc.;

Docket No. ER09-1249, Southwest Power Pool, Inc.;

Docket No. ER09-1250, Southwest Power Pool, Inc.;

Docket No. ER09-1254, Southwest Power Pool, Inc.;

Docket No. ER09-1255, Southwest Power Pool, Inc.;

Docket No. ER09-1258, Southwest Power Pool, Inc.;

Docket No. ER09-1273, Westar Energy, Inc.;

Docket No. ER09-1306, Southwest Power Pool, Inc.;

Docket No. ER09-1338, Southwest Power Pool, Inc.;

Docket No. ER09-1343, Southwest Power Pool, Inc.;

Docket No. ER09-1352, Southwest Power Pool, Inc.;

Docket No. ER09-1370, Southwest Power Pool, Inc.;

Docket No. ER09-1380, Southwest Power Pool, Inc.;

Docket Nos. OA08-5 and EL09-40, Southwest Power Pool, Inc.;

Docket No. OA08-60, Southwest Power Pool, Inc.;

Docket No. OA08-61, Southwest Power Pool, Inc.;

Docket No. OA08-104, Southwest Power Pool, Inc.

These meetings are open to the public.

For more information, contact John Rogers, Office of Energy Market Regulation, Federal Energy Regulatory Commission at (202) 502-8564 or john.rogers@ferc.gov.

Nathaniel J. Davis, Sr.,
Deputy Secretary.

[FR Doc. E9-17760 Filed 7-24-09; 8:45 am]

BILLING CODE P